DEPARTMENT OF DEFENSE

Defense Information Systems Agency

Privacy Act of 1974; System of Records

AGENCY: Defense Information Systems Agency, DoD.

ACTION: Notice to delete systems of records.

SUMMARY: The Defense Information Systems Agency is deleting three systems of records notices from its existing inventory of records systems subject to the Privacy Act of 1974, (5 U.S.C. 552a), as amended.

DATES: This proposed action will be effective without further notice on April 7, 2003 unless comments are received which result in a contrary determination.

ADDRESSES: Send comments to the Defense Information Systems Agency, 5600 Columbia Pike, Room 933-I, Falls Church, VA 22041-2705.

FOR FURTHER INFORMATION CONTACT: Mr. David Bosworth at (703) 681-2066.

SUPPLEMENTARY INFORMATION: The Defense Information Systems Agency systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 28, 2003.
Patricia L. Toppings,
Alternate OSD Federal Register Liaison Officer, Department of Defense.

KNCS.01

System name:

National Communications System Continuity of Operations Plan (NCS COOP) Automated Support (February 22, 1993, 58 FR 10562).

Reason:

There is no evidence that the system was ever implemented by DISA.

KNCS.02

System name:

National Communications System (NCS) Plan for Emergencies and Major Disasters (February 22, 1993, 58 FR 10562).

Reason:

There is no evidence that the system was ever implemented by DISA.

KNCS.03

System name:

National Communications System Emergency Action Group (NEAG) (February 22, 1993, 58 FR 10562).

Reason:

There is no evidence that the system was ever implemented by DISA.

[FR Doc. 03-5265 Filed 3-5-03; 8:45 am]

BILLING CODE 5001-08-P